DEPARTMENT OF AGRICULTURE

Animal and Plant Health Inspection Service

7 CFR Part 301

[Docket No. APHIS-2006-0153]

RIN 0579 AC25

South American Cactus Moth; Availability of an Environmental Assessment and Reopening of Comment Period

AGENCY: Animal and Plant Health Inspection Service, USDA.

ACTION: Notice of availability and request for comments; reopening of comment period.

SUMMARY: We are advising the public that an environmental assessment has been prepared by the Animal and Plant Health Inspection Service relative to the establishment of domestic quarantine regulations for the South American cactus moth, Cactoblastis cactorum. The environmental assessment documents our review and analysis of environmental impacts associated with the proposed rulemaking. We are making this environmental assessment available to the public for review and comment. In addition, we have determined that the South American cactus moth is present in the State of Mississippi, which we did not include in the quarantined area in our proposal to establish regulations for South American cactus moth. We are reopening the comment period on that proposal to allow interested persons to submit comments on the addition of Mississippi to the proposed quarantined area, as well as on other aspects of the proposal.

DATES: We will consider all comments that we receive on or before October 20, 2008.

ADDRESSES: You may submit comments by either of the following methods:

• Federal eRulemaking Portal: Go to http://www.regulations.gov/fdmspublic/component/main?main=DocketDetail&d=APHIS_2006_0153 to submit or view comments and to view supporting and related materials available electronically.

• Postal Mail/Commercial Delivery: Please send two copies of your comment to Docket No. APHIS 2006 0153, Regulatory Analysis and Development, PPD, APHIS, Station 3A 03.8, 4700 River Road, Unit 118, Riverdale, MD 20737-1238. Please state that your comment refers to Docket No. APHIS 2006 0153.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Robyn Rose, National Program Lead, Emergency and Domestic Programs, PPQ, APHIS, 4700 River Rd., Unit 26, Riverdale, MD 20737-1236; (301) 734-7121.

SUPPLEMENTARY INFORMATION:

Background

The South American cactus moth (Cactoblastis cactorum) is a grayish-brown moth with a wingspan of 22 to 35 millimeters (approximately 0.86 to 1.4 inches) that is indigenous to Argentina, southern Brazil, Paraguay, and Uruguay. It is a serious quarantine pest of Opuntia spp., and an occasional pest of Nopalea spp., Cylindropuntia spp., and Consolea spp., four closely related genera of the family Cactaceae. After an incubation period following mating, the female South American cactus moth deposits an egg stick resembling a cactus spine on the host plant. The egg stick, which consists of 70 to 90 eggs, hatches in 25 to 30 days and the larvae bore into the cactus pad to feed, eventually hollowing it out and killing the plant. Within a short period of time, the South American cactus moth can destroy whole stands of cactus.

On February 11, 2008, the Animal and Plant Health Inspection Service (APHIS) published in the Federal Register (73 FR 7679-7686, Docket No. APHIS-2006-0153) a proposal to amend the domestic quarantine regulations to establish regulations to restrict the interstate movement of South American cactus moth host material, including nursery stock and plant parts for consumption, from infested areas of the United States.

In connection with this proposed rule, we have prepared an environmental assessment (EA) entitled “Quarantine for the South American Cactus Moth, Cactoblastis cactorum, in Florida, South Carolina, Georgia, Alabama, and Mississippi.” We are making this environmental assessment available to the public for review and comment. We will consider all comments that we receive on or before the date listed under the heading DATES at the beginning of this notice.

Since publication of the proposed rule, surveys conducted by the Mississippi Department of Agriculture and Commerce have confirmed the presence of South American cactus moth in the State of Mississippi. Therefore, we have determined that Mississippi should be added to the proposed list of quarantined areas in § 301.55-3(c). In addition, we would like to clarify our intention regarding the use of deltamethrin as a treatment. Although the “Background” section of the proposal listed deltamethrin as an acceptable treatment for South American cactus moth, the proposed regulatory text did not include deltamethrin. We do not have efficacy data for the use of this chemical on South American cactus moth; therefore we did not intend to approve deltamethrin as a treatment and it should not have been included as an acceptable treatment in the “Background” section.

Comments on the proposed rule were required to be received on or before April 11, 2008. We are reopening the comment period for the proposed rule for 30 days following publication of this notice. This action will allow interested persons to prepare and submit comments regarding the proposed addition of Mississippi to the list of States quarantined for South American cactus moth or other aspects of the proposed rule. We will also consider all comments received between April 11, 2008, and the date of this notice.

The environmental assessment, the proposed rule, and all previously received comments on the proposed rule may be viewed on the Regulations.gov Web site or in our reading room (see ADDRESSES above for a link to Regulations.gov and information on the location and hours of the reading room). You may request paper copies of the documents listed above by calling or writing to the person listed under FOR FURTHER INFORMATION CONTACT. Please refer to the title of the environmental assessment when requesting copies.

The environmental assessment has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Authority: 7 U.S.C. 7701-7772 and 7781-7786; 7 CFR 2.22, 2.80, and 371.3. Section 301.75-15 issued under Sec. 204, Title II, Public Law 106-113, 113 Stat. 1501A 293; sections 301.75-15 and 301.75-16 issued under Sec. 203, Title II, Public Law 106-224, 114 Stat. 400 (7 U.S.C. 1421 note).

Done in Washington, DC, this 12th day of September 2008.
Kevin Shea,
Acting Administrator, Animal and Plant Health Inspection Service.

[FR Doc. E8-21816 Filed 9-17-08; 8:45 am]

BILLING CODE 3410-34-P